DEPARTMENT OF STATE

[Public Notice: 10308]

Meetings of the United States-Peru Environmental Affairs Council, Environmental Cooperation Commission, and Sub-Committee on Forest Sector Governance

ACTION: Notice of meetings and request for comments.

SUMMARY: The Department of State and the Office of the United States Trade Representative (USTR) are providing notice that, on February 21-22, 2018, the United States and Peru will hold the ninth meeting of the Sub-Committee on Forest Sector Governance (the “Sub-Committee”), the seventh meeting of the Environmental Affairs Council (the “Council”), and the fifth meeting of the Environmental Cooperation Commission (the “Commission”). The public session for the Council, Commission and Sub-Committee will be held on February 22, 2018 at 3:00 p.m. All meetings will take place in Lima, Peru, at the Ministry of International Trade and Tourism (Mincetur).

DATES: The public session of the Council, Sub-Committee and Commission meetings will be held on February 22, 2018 at 3:00 p.m. Comments and suggestions are requested in writing no later than February 20, 2018.

ADDRESSES: All meetings will be held at Peru's Ministry of International Trade and Tourism (Mincetur), Calle Uno Oeste N 050 Urb. Corpac, San Isidro.

Written comments and suggestions should be submitted to both:

(1) Rachel Kastenberg, Office of Environmental Quality and Transboundary Issues, U.S. Department of State, by electronic mail at KastenbergRL@state.gov with the subject line “U.S.-Peru EAC/ECC/Sub-Committee Meetings”; and

(2) Laura Buffo, Office of Environment and Natural Resources, Office of the United States Trade Representative, by electronic mail at Laura_Buffo@ustr.eop.gov with the subject line “U.S.-Peru EAC/ECC/Sub-Committee Meetings.”

FOR FURTHER INFORMATION CONTACT: Rachel Kastenberg, Telephone (202) 647-6849 or Laura Buffo, Telephone (202) 395-9424.

SUPPLEMENTARY INFORMATION: The PTPA entered into force on February 1, 2009. Article 18.6 of the PTPA establishes an Environmental Affairs Council, which meets once a year unless otherwise agreed by the Parties to discuss the implementation of Chapter 18. Annex 18.3.4 to the PTPA establishes a Sub-Committee on Forest Sector Governance. The Sub-Committee is a specific forum for the Parties to exchange views and share information on any matter arising under the PTPA Annex on Forest Sector Governance. The ECA entered into force on August 23, 2009. Article III of the ECA establishes an Environmental Cooperation Commission and makes the Commission responsible for developing a Work Program. Article 18.6 of the PTPA and Article VI of the ECA provide that meetings of the Council and Commission respectively include a public session, unless the Parties otherwise agree. At its first meeting, the Sub-Committee on Forest Sector Governance committed to hold a public session after each Sub-Committee meeting.

The purpose of the meetings is to review implementation of: Chapter 18 (Environment) of the United States-Peru Trade Promotion Agreement (PTPA); the PTPA Annex on Forest Sector Governance (Annex 18.3.4); and the United States-Peru Environmental Cooperation Agreement (ECA).

The Department of State and USTR invite interested organizations and members of the public to attend the public session, and to submit written comments or suggestions regarding implementation of Chapter 18, Annex 18.3.4, and the ECA, and any issues that should be discussed at the meetings. If you would like to attend the public session, please notify Rachel Kastenberg and Laura Buffo at the email addresses listed under the heading ADDRESSES. Please include your full name and any organization or group you represent.

In preparing comments, submitters are encouraged to refer to:

• Chapter 18 of the PTPA, including Annex 18.3.4, https://ustr.gov/trade-agreements/free-trade-agreements/peru-tpa/final-text,

• the Final Environmental Review of the PTPA, https://ustr.gov/sites/default/files/uploads/factsheets/Trade%20Topics/environment/Environmental%20Review%20FINAL%2020071101.pdf, and

• the ECA, http://www.state.gov/e/oes/eqt/trade/peru/81638.htm.

These and other useful documents are available at: http://www.ustr.gov/trade-agreements/free-trade-agreements/peru-tpa and at http://www.state.gov/e/oes/eqt/trade/peru/index.htm.

Robert Wing,
Acting Director, Office of Environmental Quality and Transboundary Issues, Department of State.

[FR Doc. 2018-02490 Filed 2-7-18; 8:45 am]

BILLING CODE 4710-09-P